DEPARTMENT OF JUSTICE

Antitrust Division

Notice Pursuant to the National Cooperative Research and Production Act of 1993—Medical CBRN Defense Consortium

Notice is hereby given that, on July 12, 2017, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, Countervail Corporation, Charlotte, NC; GenArraytion, Inc., Rockville, MD; Prosolia, Inc., Indianapolis, IN; Meso Scale Diagnostics, LLC, Rockville, MD; BioFire Defense, LLC, Salt Lake City, UT; Achaogen, Inc., San Francisco, CA; EpiVax, Inc., Providence, RI; CritiTech Particle Engineering Solutions LLC, Lawrence, KS; Colorado State University, Fort Collins, CO; Auburn University, Auburn, AL; BioCryst Pharmaceuticals, Inc., Durham, NC; and Medigen, Inc., Frederick, MD, have been added as parties to this venture.

Also, Ibis BioSciences Inc., an Abbot Company, Carlsbad, CA, has withdrawn as a party to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on April 10, 2017. A notice was published in the Federal Register pursuant to Section 6(b) of the Act on May 2, 2017 (82 FR 20488).

Patricia A. Brink,
Director of Civil Enforcement, Antitrust Division.

[FR Doc. 2017-17160 Filed 8-14-17; 8:45 am]

BILLING CODE P